DEPARTMENT OF ENERGY

Federal Energy Regulatory Commission

[Docket No. CP05-19-000]

Columbia Gas Transmission Corporation; Notice of Intent To Prepare an Environmental Assessment for the Proposed Line A-5 Replacement Project and Request for Comments on Environmental Issues

December 6, 2004.

The staff of the Federal Energy Regulatory Commission (FERC or Commission) will prepare an environmental assessment (EA) that will discuss the environmental impacts of the Line A-5 Replacement Project involving construction and operation of facilities by Columbia Gas Transmission Corporation (Columbia) in Orange and Rockland Counties, New York.¹ These facilities would consist of about 8.8 miles of 30-inch-diameter pipeline, modifications to three existing measurement and regulation (M&R) stations, and related facilities. This EA will be used by the Commission in its decision-making process to determine whether the project is in the public convenience and necessity.

¹ Columbia's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with State law.

A fact sheet prepared by the FERC entitled “An Interstate Natural Gas Facility on My Land? What Do I Need To Know?” was attached to the project notice Columbia provided to landowners. This fact sheet addresses a number of typically asked questions, including the use of eminent domain and how to participate in the Commission's proceedings. It is available for viewing on the FERC Internet Web site (http://www.ferc.gov).

Summary of the Proposed Project

Columbia wants to replace existing 8- and 16-inch-diameter pipeline on its Line A-5 with 30-inch-diameter pipeline. Columbia presently is conducting a Line A-5 Age and Condition replacement program to replace sections of its aging Line A-5 to ensure safety and continuity of service. Under the Age and Condition program, the 8.8 miles of pipeline normally would be replaced with 10-inch-diameter pipeline. However, Columbia proposes instead to install 30-inch-diameter pipeline in anticipation of increased firm demand for natural gas in the northeast and to avoid re-entering and disturbing sensitive areas along the existing pipeline right-of-way again in the near future to install the larger diameter pipeline. Columbia seeks authority to:

• Construct and operate 8.8 miles of 30-inch-diameter pipeline between its existing Tuxedo/Central Hudson M&R Station in Orange County, New York, and its existing Ramapo M&R Station in Rockland County, New York, replacing 8- and 16-inch-diameter pipeline on its Line A-5;

• Modify its existing Tuxedo/Central Hudson M&R Station at project milepost (MP) 0.0 in Orange County, New York;

• Modify its existing Sloatsburg M&R Station at MP 5.3 in Rockland County, New York;

• Modify its existing Ramapo M&R Station at MP 8.8 in Rockland County, New York; and

• Abandon in place about 1 mile of Line A-5 where Columbia would install a section of 30-inch-diameter pipeline by horizontal directional drill (HDD) between MPs 1.87 and 2.12 to cross New York Route 17, the Metro North Railroad, the Ramapo River, and Interstate 87.

Orange and Rockland Utilities (ORU) would relocate about 475 feet of its 4-inch-diameter distribution pipeline that is currently located adjacent to Columbia's Line A-5 east of the Sloatsburg M&R Station. The ORU pipeline would be moved about 15 feet from its present location, but would be installed within the construction right-of-way for the Line A-5 Replacement Project.

The location of the project facilities is shown in Appendix 1.

Land Requirements for Construction

Construction of the proposed facilities would require about 139.8 acres of land. This acreage includes all of the construction workspaces, storage/contractor yards, and access roads. About 38.8 acres of the construction work area would be within the existing Line A-5 right-of-way. Following construction, about 54.3 acres would be maintained for operation of the pipeline. About 4.9 acres would be new permanent right-of-way. The remaining 85.5 acres of land would be restored and allowed to revert to its former use.

Typically, pipeline construction would require a 75-foot-wide construction right-of-way. However, in areas with steep terrain and large amounts of rock, an additional 25 feet of temporary workspace would be required. In residential areas and within waterbodies and wetlands, the construction right-of-way width would be restricted to 75 feet. Extra workspaces would be required at road, waterbody, and wetland crossings, and at the entry and exit points of the HDD. Columbia would use about 12.5 acres of land as storage/contractor yards during construction of the project. Nine access roads would be used for the project affecting about 8.3 acres. Most of these are existing roads, however they would require widening for use by construction vehicles.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ² will discuss impacts that could occur as a result of the construction and operation of the proposed project under these general headings:

²“We”, “us”, and “our” refer to the environmental staff of the Office of Energy Projects (OEP).

• Geology and soils.

• Land use.

• Water resources, fisheries, and wetlands.

• Cultural resources.

• Vegetation and wildlife.

• Air quality and noise.

• Endangered and threatened species.

• Hazardous waste.

• Public safety.

We will also evaluate possible alternatives to the proposed project or portions of the project, and make recommendations on how to lessen or avoid impacts on the various resource areas.

Our independent analysis of the issues will be in the EA. Depending on the comments received during the scoping process, the EA may be published and mailed to Federal, State, and local agencies, public interest groups, interested individuals, affected landowners, newspapers, libraries, and the Commission(s official service list for this proceeding. A comment period will be allotted for review if the EA is published. We will consider all comments on the EA before we make our recommendations to the Commission.

To ensure your comments are considered, please carefully follow the instructions in the public participation section beginning on page 5.

Currently Identified Environmental Issues

We have already identified several issues that we think deserve attention based on a preliminary review of the proposed facilities and the environmental information provided by Columbia. This preliminary list of issues may be changed based on your comments and our analysis.

• Eight residences have been identified within 50 feet of the construction right-of-way.

• A proposed residential development has been identified between MPs 1.7 and 1.9 of the pipeline.

• Seven private water wells would be within 150 feet of the construction right-of-way.

• Thirty nine waterbodies would be crossed including 1 ephemeral, 14 intermittent, and 15 perennial waterbodies.

• About 3,899 feet of wetlands would be crossed affecting about 3.94 acres of wetlands.

• Two trout fisheries would be crossed.

• Two federally threatened or endangered species or their habitats may be affected.

• Six State threatened or endangered species or their habitats may be affected.

• About 55.4 acres of forest would be cleared for construction permanently affecting about 1.6 acres.

• Cultural resources may be affected.

• Blasting would be required for pipeline construction.

• Steep slopes may be a potential hazard during construction.

• Pipeline construction would cross public land including the Sterling Forest State Park (MP 0.0 to 0.1 and MP 0.4 to 0.8), Harriman State Park (MP 2.1 to 5.3 and MP 5.4 to 7.9), and Kakiat County Park (MP 7.9 to 8.7). Contractor/Storage yards would be in Harriman State Park (near the intersection of New York Routes 17 and 17A), and in the Samuel Fisher Mount Ivy Environmental County Park along U.S. Route 202.

• A total of 14 hiking trails would be crossed in Harriman State Park and Kakiat County Park.

• Operation of the HDD would be noisy.

• Safety.

Public Participation

You can make a difference by providing us with your specific comments or concerns about the project. By becoming a commentor, your concerns will be addressed in the EA and considered by the Commission. You should focus on the potential environmental effects of the proposal, alternatives to the proposal (including alternative routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP05-19-000

• Mail your comments so that they will be received in Washington, DC on or before January 5, 2005.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

If you do not want to send comments at this time but still want to remain on our mailing list, please return the Information Request (Appendix 4). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) (see Appendix 2).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 3, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information.

Magalie R. Salas,
Secretary.

[FR Doc. E4-3601 Filed 12-10-04; 8:45 am]

BILLING CODE 6717-01-P